DEPARTMENT OF TRANSPORTATION

Federal Aviation Administration

RTCA Special Committee 202: Portable Electronic Devices

AGENCY: Federal Aviation Administration (FAA), DOT.

ACTION: Notice of RTCA Special Committee 202 meeting.

SUMMARY: The FAA is issuing this notice to advise the public of a meeting of RTCA Special Committee 202: Portable Electronic Devices.

DATES: The meeting will be held on January 11-15, 2005 from 9 a.m. to 4:30 p.m.

ADDRESSES: The meeting will be held at Prime Hotel & Suites, 5975 Lusk Blvd., San Diego, CA 92121.

FOR FURTHER INFORMATION CONTACT: RTCA Secretariat, 1828 L Street, NW., Suite 805, Washington, DC 20036-5133; telephone (202) 833-9339; fax (202) 833-9434; web site http://www.rtca.org.

SUPPLEMENTARY INFORMATION: Pursuant to section 10(a) of the Federal Advisory Committee Act (P.L. 92-463, 5 U.S.C., Appendix 2), notice is hereby given for a Special Committee 202 meeting. The agenda will include:

• January 11 & 14:

• Working Groups 1 through 4 meet all day

• January 12:

• Opening Plenary Session (Welcome and Introductory Remarks, Review Agenda, Review/Approve previous Common Plenary Summary, Review Open Action Items)

• Update from EUROCAE Working Group WG-58

• Report from Consumer Electronic Association (CEA) Discovery Group

• Update from Regulatory Agencies (FAA, UK-CAA, Canadian TSB, or other members present)

• Report on PMC approval of Phase 1 document: DO-294

• RF-ID Tags for Phase 2 work by J. Dimtroff of FAA Seattle, ACO

• Testing and development by the EC Wireless Cabin consortium by DLR, Germany

• Airbus and On-Air testing/development on mobile phone solutions to the aircraft cabin, by R. Kebel of Airbus

• Testing Wireless LAN Systems in Aircraft, by K Yamanoto of ENRI, Japan

• Topics will include:

• Electromagnetic propagation in aircraft fuselage using WLAN frequencies

• The shielding effect of aircraft body in WLAN frequencies

• Equipment to detect high intensity radio waves in aircraft

• Report on flight investigations with GSM Mobile phones on board, by S. Knefelkamp of Airbus

• Topics will include:

• Receivable measured field strengths from ground base stations and related issues

• January 13:

• Chairman's Day 2 Opening Remarks and Process Check

• Working Groups report out/each working group will cover the following recommendations:

• Phase 2 work statement

• Revisions to Terms of Reference (TOR)

• Revisions to committee structure

• Work plan for Phase 2

• Schedule for Work Plan

• Working Group 1 (PEDs characterization, test, and evaluation)

• Working Group 2 (Aircraft test and analysis)

• Working Group 3 (Aircraft systems susceptibility)

• Working Group 4 (Risk assessment, practical application, and final documentation)

• Human Factors sub-group

• Committee consensus on Phase 2 work statement, committee structure, work plan, and schedule

• Closing Session (Other Business, Date and Place of Next Meeting, Closing Remarks, Adjourn)

• Working Group breakout sessions as required and time permits

• January 14:

• Working sessions for SC-202 Working Groups to complete action items, if required

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on November 23, 2004.
Natalie Ogletree,
FAA General Engineer, RTCA Advisory Committee.

[FR Doc. 04-27360 Filed 12-13-04; 8:45 am]

BILLING CODE 4910-13-M